DEPARTMENT OF THE INTERIOR

Bureau of Land Management

[NV-930-1430-ES; N-76527]

Notice of Realty Action: Recreation and Public Purposes (R&PP) Act Classification; Conveyance of Public Lands Near Beatty, NV

AGENCY: Bureau of Land Management, Interior.

ACTION: Classification of public land for conveyance pursuant to the Recreation and Public Purposes Act.

SUMMARY: The following described public land in Nye County, Nevada has been examined and found suitable for conveyance under provisions of the Recreation and Public Purposes Act of June 14, 1926, as amended (43 U.S.C. 869 et seq.), for the purposes of operating a municipal solid waste transfer station. These lands are hereby classified as suitable for conveyance in accordance with section 7 of the Taylor Grazing Act, 43 U.S.C. 315f, and Executive Order No. 6910:

Mount Diablo Meridian, Nevada

T. 12 S., R. 46 E.,

sec 13, S½NW¼NW¼NW¼.

Containing 5 acres more or less.

The solid waste transfer station will occupy a total of ten acres, five of which were previously classified under a notice for the existing Beatty Landfill (N-35639).

The lands are not needed for Federal purposes. Conveyance is consistent with BLM land use planning and would be in the public interest. Patent will be issued to Nye County and will be subject to the provisions of the Recreation and Public Purposes Act and applicable regulations of the Secretary of the Interior, and will contain the following reservations to the United States:

1. A right-of-way thereon for ditches or canals constructed by the authority of the United States, pursuant to the Act of August 30, 1890 (43 U.S.C. 945);

2. All minerals shall be reserved to the United States, together with the right to prospect for, mine, and remove such deposits from the same under applicable law and regulations to be established by the Secretary of the Interior.

Patent will contain the following provisions:

1. Nye County a political subdivision of the State of Nevada, assumes all liability for and shall defend, indemnify, and save harmless the United States and its officers, agents, representatives, and employees (hereinafter referred to in this clause as the United States), from all claims, loss, damage, actions, causes of actions, expense, and liability (hereinafter referred to in this clause as claims), resulting from, brought for, or on account of, any personal injury, threat of personal injury, or property damage received or sustained by any person or persons (including the patentees employees) or property growing out of, occurring, or attributable directly or indirectly, to the disposal of solid waste on, or the release of hazardous substances from Mount Diablo Meridian, Nevada, T. 12 S., R. 46 E., sec. 13, S½NW¼NW¼NW¼, N½SW¼NW¼NW¼, regardless of whether such claims shall be attributable to: (1) The concurrent, contributory, or partial fault, failure or negligence of the United States;

2. A portion of the above described land was used as a solid waste disposal site, and will continue to be used as solid waste transfer station. Upon closure, the site may contain small quantities of commercial and household wastes as determined in the Resource Conservation and Recovery Act of 1976, as amended (42 U.S.C. 6901), and defined in 40 CFR 261.4 and 261.5. Although there is no indication these materials pose any significant risk to human health or the environment, future land uses should be limited to those which do not penetrate the liner of final cover of the site unless excavation is conducted subject to applicable State and Federal requirements;

3. No portion of the land shall under any circumstances revert to the United States if any portion has been used for solid waste disposal or for any other purpose which may result in the disposal, placement, storage, or release of any hazardous substance;

and will be subject to valid existing rights.

Detailed information concerning this action is available for review at the office of the Bureau of Land Management, Tonopah Field Station, 1553 South Main Street, Tonopah, Nevada. The subject lands were previously classified and segregated for the purposes of a lease authorizing a sanitary landfill pursuant to the Recreation and Public Purposes Act. Further segregation will not be required.

For a period of 45 days from the date of publication of this Notice in the Federal Register, interested parties may submit comments regarding the proposed conveyance or classification of the lands to the Assistant Field Station Manager, Tonopah Field Station, PO Box 911, Tonopah, NV 89049.

Classification Comments

Interested parties may submit comments involving the suitability of the land for use as a municipal solid waste transfer station. Comments on the classification are restricted to whether the land is physically suited for the proposal, whether the use is consistent with local planning and zoning, or if the use is consistent with State and Federal programs.

Application Comments

Interested parties may submit comments regarding the specific use proposed in the application and plan of development, whether the BLM followed proper administrative procedures in reaching the decision, or any other factor not directly related to the suitability of the land for the uses described.

Any adverse comments will be reviewed by the State Director. In the absence of any adverse comments, the classification of the land will become effective 60 days from the date of publication of this Notice in the Federal Register. The lands will not be conveyed until after the classification becomes effective.

Dated: January 6, 2003.
William S. Fisher,
Assistant Field Manager, Tonopah.

[FR Doc. 03-3170 Filed 2-7-03; 8:45 am]

BILLING CODE 4310-HC-P